DEPARTMENT OF ENERGY

Office of Energy Efficiency and Renewable Energy

Proposed Agency Information Collection

AGENCY: Office of Energy Efficiency and Renewable Energy, U.S. Department of Energy (DOE).

ACTION: Submission for Office of Management and Budget (OMB) review; comment request.

SUMMARY: The Department of Energy has submitted to the OMB for clearance, a proposal for collection of information pursuant to the Paperwork Reduction Act of 1995. The collection would be used to develop information that will enable DOE to measure the impact and progress of DOE's National Clean Fleets Partnership (Partnership). The Partnership is an initiative through which DOE provides large private-sector fleets with technical assistance and expertise to incorporate alternative fuels and fuel saving measures into their operations successfully. The initiative builds on the established success of DOE's Clean Cities program. The Partnership was developed with input from fleet managers, industry representatives, Clean Cities program staff, and Clean Cities coordinators.

DATES: Comments regarding this proposed information collection must be received on or before April 5, 2013. If you anticipate that you will be submitting comments, but find it difficult to do so within the period of time allowed by this notice, please advise the OMB Desk Officer of your intention to make a submission as soon as possible. The Desk Officer may be telephoned at 202-395-4718 or contacted by email at chad_s_whiteman@omb.eop.gov.

ADDRESSES: Written comments may be sent to Desk Officer for the Department of Energy Office of Information and Regulatory Affairs Office of Management and Budget New Executive Office Building Room 10102, 735 17th Street NW., Washington, DC 20503 and to Mr. Mark Smith, Office of Energy Efficiency and Renewable Energy (EE-2G), U.S. Department of Energy, 1000 Independence Avenue SW., Washington, DC 20585-0121, or by fax at 202-586-1600, or by email at Mark.Smith@ee.doe.gov.

FOR FURTHER INFORMATION CONTACT: Mr. Mark Smith at the address listed above in ADDRESSES.

SUPPLEMENTARY INFORMATION: This information collection request contains: (1) OMB No. New; (2) Information Collection Request Title: National Clean Fleets Partnership Progress; (3) Type of Request: New; (4) Purpose: DOE's Clean Cities initiative has developed a voluntary National Clean Fleets Partnership effort that establishes strategic alliances with large private fleets to help them explore and adopt alternative fuels and fuel economy measures to reduce petroleum use. The Partnership does not endeavor to engage a large number of fleets, but rather works with select fleets committed to leading the way in reducing petroleum consumption. Under a voluntary agreement, Clean Cities commits to provide each fleet with a designated account manager for assistance and support; work with fleets to develop individual partner plans to reduce petroleum use; provide technical assistance, data, access to subject matter experts, analysis, and unbiased evaluation; provide education and outreach materials to recognize a fleet's involvement with the Partnership and its accomplishments; supply mechanisms for fleet information exchange and networking; and identify and document progress related to petroleum savings, cost savings, and reductions in emissions. A participating fleet commits to appointing a primary contact; developing a petroleum use reduction plan; acting to work toward the goals set forth in the plan; tracking progress and provide baseline information and annual data on petroleum use; and participating as an active Clean Cities stakeholder.

The principal objective of collecting the information DOE seeks to gather through the Partnership effort is to allow DOE to develop an objective assessment and estimate of each fleet's impact and progress. Information requested would be used to establish a baseline of activities, vehicle inventories, and fuel use for each fleet, which will then be used for future comparisons and analyses of instituted programs and policies. A designated representative for each participating fleet will provide the requested information. The intended respondent is expected to be aware of relevant aspects of the company's fleet management, such that the gathering of information is not expected to be very resource consuming.

The Partnership effort will rely on data provided in a template spreadsheet and responses to questions the respondent chooses to answer during a phone or in-person interview. The questions and data collection would address the following topic areas: (a) Vehicle data, in terms of the number of different vehicles in the fleet sorted by fuel type and class or category of vehicle; (b) Fuel data, in terms of the quantity of fuel used in given vehicle categories or classes, based on the type of fuel; (c) Fuel use by type by zip code or other appropriate geographic zone; (d) type of infrastructure used; (e) Current and historical fleet strategies to reduce petroleum (driver training, idle reduction, alternative fuels, right sizing); and (f) Fleet operations (how vehicles are fueled). The responses and data will be compiled for the purpose of assessing progress against the fleet's baseline information, and impact in terms of increasing deployment of alternative fueled vehicles and alternative fuels themselves.

The interview that would be part of the voluntary Partnership initiative would be completed on an annual basis, at the convenience of the participating fleet, there being no date by which the questions must be completed. Calculation of progress and impacts will be undertaken on an ongoing basis, once the interview is completed.

The data and subsequent analyses will allow DOE to compare historical records dynamically, and provide the opportunity for each fleet to determine annual progress.

The Partnership is targeted at large, private-sector fleets that own or have contractual control over at least 50 percent of their vehicles and have vehicles operating in multiple States. DOE expects approximately 20 fleets to participate in the Partnership the first year and, as a result, DOE expects a total respondent population of approximately 20 respondents the first year. Providing initial baseline information for each participating fleet, which occurs only once, is expected to take 60 minutes. Follow-up questions and clarifications for the purpose of ensuring accurate analyses are expected to take up to 90 minutes. (5) Annual Estimated Number of Respondents: 20; (6) Annual Estimated Number of Total Responses: 20; (7) Annual Estimated Number of Burden Hours: 50; and (8) Annual Estimated Reporting and Recordkeeping Cost Burden: There is no cost associated with reporting and recordkeeping.

Statutory Authority: 42 U.S.C. 13252(a)-(b); 42 U.S.C. 13255; 42 U.S.C. Sec 7256.

Issued in Washington, DC, on February 28, 2013.
Patrick B. Davis,
Director, Vehicle Technologies Program, Energy Efficiency and Renewable Energy.

[FR Doc. 2013-05153 Filed 3-5-13; 8:45 am]

BILLING CODE 6450-01-P